DEPARTMENT OF COMMERCE

National Oceanic and Atmospheric Administration

[RTID 0648-XB964]

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council (Council) will hold a meeting of its Scientific and Statistical Committee (SSC).

DATES: The meeting will be held on Tuesday, May 10, 2022, starting at 12:30 p.m. and continue through 1 p.m. on Wednesday, May 11, 2022. See SUPPLEMENTARY INFORMATION for agenda details.

ADDRESSES: The meeting will be conducted in a hybrid format, with options for both in-person and webinar participation.

Meeting address: The meeting will be held at the Royal Sonesta Harbor Court, 550 Light Street, Baltimore, MD 21202. Details on how to connect to the webinar by computer and by telephone will be available at: www.mafmc.org/ssc.

Council address: Mid-Atlantic Fishery Management Council, 800 N State Street, Suite 201, Dover, DE 19901; telephone: (302) 674-2331; website: www.mafmc.org.

FOR FURTHER INFORMATION CONTACT: Christopher M. Moore, Ph.D., Executive Director, Mid-Atlantic Fishery Management Council, telephone: (302) 526-5255.

SUPPLEMENTARY INFORMATION: During this meeting, the SSC will review and provide feedback on a draft response to address the Council's motion seeking SSC input on the Recreational Harvest Control Rule management action. The SSC will also receive an introductory overview of the recently peer reviewed Illex squid and Butterfish research track stock assessment information and on the Ecosystem and Socio-economic Profiles being developed for the Bluefish and Black Sea Bass research track assessments. The SSC will also review the most recent survey and fishery data and the previously recommended 2023 Acceptable Biological Catch (ABC) for Atlantic Surfclam and Ocean Quahog and will make 2023-2025 ABC recommendations for Chub Mackerel. The SSC will also develop guidance for Council consideration on constant/average ABC recommendations. The SSC may take up any other business as necessary.

A detailed agenda and background documents will be made available on the Council's website (www.mafmc.org) prior to the meeting.

Special Accommodations

These meetings are physically accessible to people with disabilities. Requests for sign language interpretation or other auxiliary aid should be directed to Shelley Spedden, (302) 526-5251, at least 5 days prior to the meeting date.

(Authority: 16 U.S.C. 1801 et seq.)

Dated: April 14, 2022.
Tracey L. Thompson,
Acting Deputy Director, Office of Sustainable Fisheries, National Marine Fisheries Service.

[FR Doc. 2022-08403 Filed 4-19-22; 8:45 am]

BILLING CODE 3510-22-P